DEPARTMENT OF COMMERCE

International Trade Administration

[A-357-824, A-201-856, A-821-833]

Oil Country Tubular Goods From Argentina, Mexico, and the Russian Federation: Postponement of Preliminary Determinations in the Less-Than-Fair-Value Investigations

AGENCY: Enforcement and Compliance, International Trade Administration, Department of Commerce.

DATES: Applicable February 17, 2022.

FOR FURTHER INFORMATION CONTACT: Dmitry Vladimirov at (202) 482-0665 (Argentina); James Hepburn at (202) 482-1882 (Mexico); George McMahon at (202) 482-1167 (the Russian Federation (Russia)); AD/CVD Operations, Enforcement and Compliance, International Trade Administration, U.S. Department of Commerce, 1401 Constitution Avenue NW, Washington, DC 20230.

SUPPLEMENTARY INFORMATION:

Background

On October 26, 2021, the Department of Commerce (Commerce) initiated less-than-fair-value (LTFV) investigations of imports of oil country tubular goods (OCTG) from Argentina, Mexico, and Russia.¹ Currently, the preliminary determinations are due no later than March 15, 2022.

¹ See Oil Country Tubular Goods from Argentina, Mexico, and the Russian Federation: Initiation of Less-Than-Fair-Value Investigations, 86 FR 60205 (November 1, 2021).

Postponement of Preliminary Determinations

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 10, 2022, Borusan Mannesmann Pipe U.S., Inc., PTC Liberty Tubulars LLC, U.S. Steel Tubular Products, Inc., the United Steel, Paper and Forestry, Rubber, Manufacturing, Energy, Allied Industrial and Service Workers International Union, AFL-CIO, CLC, and Welded Tube USA, Inc. (collectively, the petitioners) submitted a timely request that Commerce postpone the preliminary determinations in these LTFV investigations.² The petitioners stated that they request postponement due to the size and complexity of the investigations, the extensions of time already granted by Commerce to respondents, and the amount of time needed for Commerce to conduct complete and thorough analyses in these investigations, including the issuance and review of additional supplemental questionnaires.³

² See Petitioners' Letter, “Oil Country Tubular Goods from Argentina, Mexico, Russia, and the Republic of Korea: Petitioners' Request to Extend Preliminary Determinations and Align the Countervailing Duty Investigations with the Concurrent Less-Than-Fair-Value Investigations,” dated February 10, 2022.

³ Id.

For the reasons stated above, and because there are no compelling reasons to deny the request, Commerce, in accordance with section 733(c)(1)(A) of the Act and 19 CFR 351.205(e), is postponing the deadline for these preliminary determinations by 50 days (i.e., 190 days after the date on which these investigations were initiated). As a result, Commerce will issue its preliminary determinations no later than May 4, 2022. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: February 11, 2022.
Lisa W. Wang,
Assistant Secretary for Enforcement and Compliance.

[FR Doc. 2022-03450 Filed 2-16-22; 8:45 am]

BILLING CODE 3510-DS-P